DEPARTMENT OF ENERGY

Federal Energy Regulatory Commission

[Docket No. RP00-258-000]

Trunkline LNG Company; Notice of Proposed Changes in FERC Gas Tariff

May 2, 2000.

Take notice that on April 28, 2000, Trunkline LNG Company (TLNG) tendered for filing the following revised tariff sheet as part of its FERC Gas Tariff, Original Volume No. 1, to be effective June 1, 2000:

Fourth Revised Sheet No. 1

TLNG states that the purpose of this filing, made in accordance with the provisions of Section 154.602 of the Commission's Regulations, is to cancel TLNG's FERC Gas Tariff, Original Volume No. 1 in its entirety. The last effective rate schedule, Rate Schedule PLNG-2, was abandoned and canceled effective April 1, 1999 by the Commission's Order Approving Abandonment issued July 9, 1999 in Docket No. CP99-525-000 and the Commission's Order Accepting Tariff Sheets and Refund Plan issued March 15, 2000 in Docket No. RP92-122-008 (lead docket Trunkline Gas Company Docket No. RP87-15-036). All of the rate schedules in TLNG's Original Volume No. 1 have been canceled and no customers are affected by this filing. Therefore, TLNG proposes to cancel its Original Volume No. 1 in its entirety. TLNG will continue to offer open access service under its FERC Gas Tariff, Original Volume No. 1-A.

TLNG states that copies of this filing are being served on applicable state regulatory agencies.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11363 Filed 5-5-00; 8:45 am]

BILLING CODE 6717-01-M